DEPARTMENT OF LABOR

Employment and Training Administration

[TA-W-60,195]

Walter Kidde Portable Equipment, Inc.; Kidde Residential and Commercial Division; Including On-Site Temporary Workers of Special Teams Power; Mebane, NC; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 12, 2006, applicable to workers of Walter Kidde Portable Equipment, Inc., Kidde Residential and Commercial Division, Mebane, North Carolina. The notice was published in the Federal Register on October 25, 2006 (71 FR 62490).

At the request of the State agency, the Department reviewed the certification for workers of the subject firm. The workers are engaged in the production of portable fire extinguishers.

New information shows that temporary workers of Special Teams Power were employed on-site at Walter Kidde Portable Equipment, Inc., Kidde Residential and Commercial Division, Mebane, North Carolina.

Based on these findings, the Department is amending this certification to include temporary workers of Special Teams Power working on-site at the Mebane, North Carolina location of the subject firm.

The intent of the Department's certification is to include all workers employed at Walter Kidde Portable Equipment, Inc., Kidde Residential and Commercial Division, Mebane, North Carolina who were adversely affected by a shift in production to Mexico.

The amended notice applicable to TA-W-60,195 is hereby issued as follows:

“All workers of Walter Kidde Portable Equipment, Inc., Kidde Residential & Commercial Division, including on-site temporary workers of Special Team Power, Mebane, North Carolina, who became totally or partially separated from employment on or after October 1, 2005, through October 12, 2008, are eligible to apply for adjustment assistance under Section 223 of the Trade Act of 1974, and are also eligible to apply for alternative trade adjustment assistance under Section 246 of the Trade Act of 1974.”

Signed at Washington, DC, this 16th day of March 2007.
Richard Church,
Certifying Officer, Division of Trade Adjustment Assistance.

[FR Doc. E7-5845 Filed 3-29-07; 8:45 am]

BILLING CODE 4510-FN-P